DEPARTMENT OF ENERGY

Federal Energy Regulatory Commission

Notice of Scoping Meetings and Site Visit and Soliciting Scoping Comments

April 19, 2002.

Take notice that the Federal Energy Regulatory Commission (Commission) intends to perform early scoping for the Baker River Hydroelectric Project: a.

a. Type of Application: Early Scoping Under the National Environmental Policy Act (NEPA) for New Major License.

b. Project No.: 2150.

c. Date Filed: License Application Expected by April 30, 2004.

d. Applicant: Puget Sound Energy, Inc.

e. Name of Project: Baker River Project.

f. Location: On the Baker River in Skagit and Whatcom Counties, Washington. The project occupies 5,335 acres of United States lands managed by the U.S. Forest Service.

g. Filed Pursuant to: Federal Power Act, 16 USC § 791(a)—825(r).

h. Applicant Contact: Connie Freeland, Puget Sound Energy, Inc., P.O. Box 97034, Bellevue, WA 98009-9734; cfreel@puget.com (425) 462-3556.

i. FERC Contact: Steve Hocking, steve.hocking@ferc.gov (202) 219-2656.

j. Deadline for filing scoping comments: July 22, 2002.

All documents (an original and eight copies) should be filed with: Magalie R. Salas, Secretary, Federal Energy Regulatory Commission, 888 First Street, NE, Washington DC 20426.

Scoping comments may be filed electronically via the Internet in lieu of paper. See 18 CFR 385.2001(a)(1)(iii) and the instructions on the Commission's web site www.ferc.gov under the “e-Filing” link.

k. This application is not ready for environmental analysis at this time.

l. The existing Baker River Project has two developments. The Upper Baker Development is located at river mile 9.35 on the Baker River about 8 miles upstream of the City of Concrete, Washington. This development has the following existing facilities: (1) A 312-foot-high and 1,200-foot-long dam with an ogee-type spillway containing three radial gates that are each 25 feet wide and 30 feet high; (2) a 115-foot-high and 1,200-foot-long West Pass dike; (3) a 9-mile-long reservoir (Baker Lake) with a surface area of 4,797 acres at a normal maximum pool elevation of 724 feet mean sea level (fmsl); (4) a 122-foot-long and 59-foot-wide reinforced concrete powerhouse located in the north half of the existing river bed and housing two turbine-driven generators with an authorized capacity of 90.7 megawatts (MW) and a hydraulic capacity of 5,100 cubic feet per second (cfs); (5) transmission lines; (6) downstream fish passage facilities and artificial spawning beaches; and (7) appurtenant facilities.

The Lower Baker Development is located 0.5 mile upstream of the confluence of the Baker and Skagit Rivers. This development has the following existing facilities: (1) A 285-foot-high and 570-foot-long concrete gravity arch dam with a spillway containing 23 vertical slide gates that are each 14 feet high and 9.5 feet wide; (2) a concrete intake equipped with trashracks and gatehouse located near the left dam abutment; (3) one concrete and steel-lined penstock; (4) a 7-mile-long reservoir (Lake Shannon) with a surface area of 2,190 acres at a normal maximum pool elevation of 438.6 fmsl; (5) a reinforced concrete powerhouse that is 90 feet long and 66 feet wide housing a single turbine-generator with an authorized capacity of 71.4 MW and a hydraulic capacity of 4,100 cfs; (6) transmission lines; (7) a barrier dam; (8) upstream and downstream fish passage facilities; and (9) appurtenant facilities.

m. A copy of SD1 is on file with the Commission and is available for public inspection. SD1 may also be viewed on the web at www.ferc.gov using the “RIMS” link-select “Docket #” and follow the instructions (call 202-208-2222 for assistance). A copy is also available for inspection and reproduction at the address in item h above.

n. Scoping Process: Although the Commission's intent is to prepare an environmental assessment (EA) for the Baker River Project, there is the possibility that an Environmental Impact Statement (EIS) will be required. Nevertheless, our scoping meetings described below will satisfy NEPA scoping requirements, irrespective of whether an EA or EIS is issued by the Commission. The Commission does not intend to conduct NEPA scoping meetings after Puget Sound Energy, Inc. (Puget) files its license application.

Scoping Meetings

Commission staff and Puget will jointly conduct one evening scoping meeting and one morning scoping meeting. The morning meeting will focus on resource agency and non-governmental organization concerns, while the evening meeting is primarily for public input. All interested individuals, organizations, and agencies are invited to attend one or both of the meetings. Meeting times and locations are:

Evening Scoping Meeting

Date: May 21, 2002.

Time: 6:00 p.m. to 10:00 p.m.

Place: Concrete High School Multipurpose Room, 7830 Superior Avenue, Concrete, Washington.

Morning Scoping Meeting

Date: May 22, 2002.

Time: 9:00 a.m. to 3:00 p.m.

Place: Cottontree Inn, 2401 Riverside Drive, Mount Vernon, Washington.

Copies of SD1 outlining the subject areas to be addressed in an EA were distributed to the parties on the Commission's mailing list. Copies of SD1 will be available at the scoping meetings or may be viewed on the web at www.ferc.gov using the “RIMS” link, select “Docket #” and follow the instructions (call 202-208-2222 for assistance).

Site Visit

Commission staff and Puget will have a site visit to the Baker River Project at 10:00 a.m. on May 21, 2002. All interested individuals, organizations, and agencies are invited to attend. All participants should meet at the Baker River Project Visitor Center at 46110 East Main Street, Concrete, Washington. Any person interested in attending the site visit should call the Baker Message Line at 1-888-225-5773 (option 5, extension 81-3110) or send an email to bakerlicense@puget.com. Puget will supply on-site transportation for the site visit.

Objectives

At the scoping meetings, Commission staff will: (1) Summarize the environmental issues tentatively identified for analysis in the EA; (2) solicit from meeting participants all available information, especially quantifiable data, on the resources at issue; (3) encourage statements from experts and the public on issues that should be analyzed in the EA, including viewpoints in opposition to, or in support of, Commission staff's preliminary views; (4) determine the resource issues to be addressed in the EA; and (5) identify those issues that require a detailed analysis, as well as those issues that do not require a detailed analysis. Individuals, organizations, and agencies with environmental expertise and concerns are encouraged to attend the scoping meetings and to assist Commission staff in defining and clarifying the issues to be addressed in an EA. Both scoping meetings will be recorded by a stenographer and the transcripts will become part of the Commission's official record for this project.

Magalie R. Salas,
Secretary.

[FR Doc. 02-10145 Filed 4-24-02; 8:45 am]

BILLING CODE 6717-01-P